DEPARTMENT OF THE INTERIOR

National Park Service

Notice of Inventory Completion: Texas Archeological Research Laboratory, The University of Texas at Austin, Austin, TX

AGENCY: National Park Service, Interior.

ACTION: Notice.

Notice is here given in accordance with the Native American Graves Protection and Repatriation Act (NAGPRA), 25 U.S.C. 3003, of the completion of an inventory of human remains and associated funerary objects in the possession of the Texas Archeological Research Laboratory, The University of Texas at Austin, Austin, TX. The human remains and associated funerary objects were removed from a site in Real County, TX.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains was made by Texas Archeological Research Laboratory professional staff and the information was provided to representatives of the Mescalero Apache Tribe of the Mescalero Reservation, New Mexico, who claim affiliation and who have requested specific handling and housing conditions for the remains. No other tribe was consulted due to the clarity of information on affiliation.

In 1962, human remains representing a minimum of 17 individuals were removed from beneath the floor of the San Lorenzo de la Santa Cruz Mission church (site 41 RE 1), Real County, TX, by the Texas Memorial Museum, University of Texas and subsequently transferred to the Texas Archeological Research Laboratory. No known individuals were identified. The 111 associated funerary objects are 3 crucifixes, 2 brass medallions, 93 glass beads, 7 alabaster beads, 1 coral bead, 1 amber bead, 1 vial of Opuntia seeds, and a minimum of 3 linen fragments.

The San Lorenzo de la Santa Cruz Mission was established specifically for the Lipan Apache. The mission was operated by the Franciscan missionaries of the Colegio de la Santa Cruz de Queretaro between 1762 and 1771 for the purpose of converting the Lipan Apache to Christianity. The Lipan Apache band became members of the Mescalero Apache Tribe of the Mescalero Reservation, New Mexico in 1936 under provisions of the Indian Reorganization Act.

Officials of the Texas Archeological Research Laboratory have determined that, pursuant to 25 U.S.C. 3001 (9-10), the human remains described above represent the physical remains of 17 individuals of Native American ancestry. Officials of the Texas Archeological Research Laboratory also have determined that, pursuant to 25 U.S.C. 3001 (3)(A), the 111 objects described above are reasonably believed to have been placed with or near individual human remains at the time of death or later as part of the death rite or ceremony. Lastly, officials of the Texas Archeological Research Laboratory have determined that, pursuant to 25 U.S.C. 3001 (2), there is a relationship of shared group identity that can be reasonably traced between the Native American human remains and associated funerary objects and the Mescalero Apache Tribe of the Mescalero Reservation, New Mexico.

Representatives of any other Indian tribe that believes itself to be culturally affiliated with the human remains and associated funerary objects should contact Dr. Darrell Creel, Director, The University of Texas at Austin, Texas Archeological Research Laboratory, 1 University Station R7500, Austin, TX 78712-0714, telephone (512) 471-5960, before December 23, 2004. Repatriation of the human remains and associated funerary objects to the Mescalero Apache Tribe of the Mescalero Reservation, New Mexico may proceed after that date if no additional claimants come forward.

The Texas Archeological Research Laboratory is responsible for notifying the Mescalero Apache Tribe of the Mescalero Reservation, New Mexico that this notice has been published.

Dated: October 25, 2004
Sherry Hutt,
Manager, National NAGPRA Program.

[FR Doc. 04-25927 Filed 11-22-04; 8:45 am]

BILLING CODE 4312-50-S